DEPARTMENT OF HOMELAND SECURITY

[Docket No. DHS-2008-0075]

Science and Technology Directorate; Submission for Review; Information Collection Request for the DHS S&T Tech Clearinghouse Program

AGENCY: Science and Technology Directorate, DHS.

ACTION: 30-day Notice and request for comment.

SUMMARY: The Department of Homeland Security (DHS) invites the general public to comment on new data collection forms for the Tech Clearinghouse program: Consent Form, Entrance Form, Structured Assessment Case #1, Structured Assessment Case #2, Structured Assessment Case #3, Structured Assessment Case #4, and Exit Form. The Homeland Security Act of 2002 requires the Department of Homeland Security (DHS) Science and Technology Directorate (S&T) to establish a Technology Clearinghouse to encourage and support innovative technical solutions to enhance homeland security and the mission of the Department (Pub. L. 107-296, Section 313). This requirement responds to long-standing requests by the first responder community to create a resource for information and technology that would assist them in support of their mission. In order to assess the current version of the DHS Tech Clearinghouse, a National Online Electronic Assessment (NOEA) will be administered. This notice and request for comments is required by the Paperwork Reduction Act of 1995 (Pub. L. 104-13, 44 U.S.C. chapter 35). Previously, a 60-day Notice for public comment was published on May 19, 2008.

DATES: Comments are encouraged and will be accepted until September 2, 2008.

Comments: Interested persons are invited to submit written comments on the proposed information collection to the Office of Information and Regulatory Affairs, Office of Management and Budget. Comments should be addressed to Desk Officer for the Department of Homeland Security, Science & Technology Directorate, and sent via electronic mail to oira_submission@omb.eop.gov or faxed to (202) 395-6974. Please include docket number [DHS-2008-0075] in the subject line of the message.

FOR FURTHER INFORMATION CONTACT: Michael Bowerbank (202) 254-6895 (this is not a toll free number).

SUPPLEMENTARY INFORMATION: The Tech Clearinghouse National On-line Assessment (NOEA) will collect information via a secure Web site. The data will be used by DHS S&T to: (1) Assess the overall usability of the Tech Clearinghouse, (2) Assess the specific functions of the Tech Clearinghouse, (3) Assess the relevancy and usefulness of the content of the Tech Clearinghouse to first responders, (4) Assess the ease with which users navigate the Tech Clearinghouse, and (5) Provide general feedback on the Tech Clearinghouse.

Information technology will be used in the collection of this information to reduce the data gathering and records management burden. The National Online Electronic Assessment will be conducted with approximately 100 currently employed or recently retired individuals from the first responder disciplines. An invitation to participate in the National Online Electronic Assessment will be distributed through sources such as the First Responder Technologies (R-Tech) User Working Group (UWG), the R-Tech Newsletter, and national and state-level associations representing all first responder disciplines. The sources will announce the opportunity for participation in the NOEA.

The assessment will be completely Web-based. DHS S&T will provide a secure Web site, through which individuals can participate in the assessment. DHS has opted to conduct this collection electronically in order to minimize the burden on participants. Individuals that choose to participate will take part in the assessment over a 4-week period, at locations of their choice where an Internet connection is available. The assessment will require a total of two and a half (2.5) hours of the respondent's time, thus presenting a minimal burden to each respondent.

Participants will be asked to read and sign an electronic consent form granting their consent to participate in the assessment. Participants will then complete an online Entrance Form, which addresses their familiarity with computers, computer use in employment and leisure, common Web sites they visit and/or use, and expectations of the Tech Clearinghouse. They will then utilize and assess the Tech Clearinghouse by conducting specified and general searches and providing feedback through online assessment instruments (Structured Assessment Cases). After completing the Structured Assessment Cases, participants will complete an online Exit Form, which addresses the participant's satisfaction with and the overall usability of the Tech Clearinghouse and specific functions included in the Tech Clearinghouse. The electronic data collection forms will standardize the collection of information that is both necessary and sufficient for assessing the Tech Clearinghouse. All online assessment instruments were created using mrInterview™ 4.0 software, which works in conjunction with the Statistical Package for the Social Sciences (SPSS™). Data collected from online assessment instruments will be analyzed using SPSS™ 15.0. Data will be stored in password-protected computers accessible only to authorized personnel, and no data will be associated in any way with personally identifiable information (PII).

Overview of This Information Collection

(1) Type of Information Collection: New information collection.

(2) Title of the Form/Collection: Tech Clearinghouse.

Agency Form Number, if any, and the applicable component of the Department of Homeland Security sponsoring the collection: DHS Science & Technology Directorate.

(3) Affected public who will be asked or required to respond, as well as a brief abstract: Individuals; the data will be gathered from individuals who receive an invitation to participate in the National Online Electronic Assessment through sources such as the First Responder Technologies (R-Tech) User Working Group (UWG), the R-Tech Newsletter, and national and state-level associations representing all first responder disciplines.

(4) An estimate of the total number of respondents and the amount of time estimated for an average respondent to respond:

a. Estimate of the total number of respondents: 100.

b. An estimate of the time for an average respondent to respond: 2.5 burden hours.

Dated: July 18, 2008.
Kenneth D. Rogers,
Chief Information Officer, Science and Technology Directorate.

[FR Doc. E8-17617 Filed 7-31-08; 8:45 am]

BILLING CODE 4410-10-P